SECURITIES AND EXCHANGE COMMISSION

Sunshine Act Meeting

Notice is hereby given, pursuant to the provisions of the Government in the Sunshine Act, Public Law 94-409, that the Securities and Exchange Commission will hold an Open Meeting on Wednesday, May 1, 2013 at 10:00 a.m., in the Auditorium, Room L-002.

The subject matters of the Open Meeting will be:

• Item 1: The Commission will consider whether to propose new rules and interpretive guidance for cross-border security-based swap activities and to re-propose Regulation SBSR and certain rules and forms relating to the registration of security-based swap dealers and major security-based swap participants.

• Item 2: The Commission will consider whether to reopen the comment periods and receive new information for certain rulemaking releases and the policy statement applicable to security-based swaps proposed pursuant to the Securities Exchange Act of 1934 and the Dodd-Frank Wall Street Reform and Consumer Protection Act.

Commissioner Aguilar, as duty officer, determined that no earlier notice thereof was possible.

At times, changes in Commission priorities require alterations in the scheduling of meeting items.

For further information and to ascertain what, if any, matters have been added, deleted or postponed, please contact:

The Office of the Secretary at (202) 551-5400.

Dated: April 26, 2013.
Elizabeth M. Murphy,
Secretary.

[FR Doc. 2013-10355 Filed 4-29-13; 11:15 am]

BILLING CODE 8011-01-P